DEPARTMENT OF ENERGY

Advanced Scientific Computing Advisory Committee

AGENCY: Office of Science, Department of Energy.

ACTION: Notice of open meeting.

SUMMARY: This notice announces a meeting of the Advanced Scientific Computing Advisory Committee (ASCAC). The Federal Advisory Committee Act requires that public notice of these meetings be announced in the Federal Register.

DATES: Thursday, July 29, 2021; 1:00 p.m. to 6:00 p.m. EDT.

ADDRESSES: Teleconference: Remote attendance of the ASCAC meeting will be possible via Zoom. Instructions will be posted on the Committee's website at: (https://science.energy.gov/ascr/ascac/) prior to the meeting and can also be obtained by contacting Christine Chalk by email at (christine.chalk@science.doe.gov), or by phone at (301) 903-7486.

FOR FURTHER INFORMATION CONTACT: Christine Chalk, Office of Advanced Scientific Computing Research; SC-31/Germantown Building; U.S. Department of Energy; 1000 Independence Avenue SW; Washington, DC 20585-1290; Telephone (301) 903-7486; email: christine.chalk@science.doe.gov.

SUPPLEMENTARY INFORMATION:

Purpose of the Committee: The Committee provides advice and guidance on a continuing basis to the Office of Science and to the Department of Energy on scientific priorities within the field of advanced scientific computing research.

Purpose of the Meeting: This meeting is the semi-annual meeting of the Committee.

Tentative Agenda:

• View from Washington

• View from Germantown

• Update on Exascale project activities

• Update on ASCR collaborations

• Update from Committee of Visitors

• Challenges and Best Practices for increasing Diversity

• Technical presentations

• Public Comment (10-minute rule)

The meeting agenda includes an update on the budget, accomplishments, and planned activities of the Advanced Scientific Computing Research program and the exascale computing project; an update from the Office of Science; technical presentations from funded researchers; updates from subcommittees and there will be an opportunity for comments from the public. The meeting will conclude at 6:00 p.m. EDT on July 29, 2021. Agenda updates and presentations will be posted on the ASCAC website prior to the meeting: https://science.osti.gov/ascr/ascac.

Public Participation: The meeting is open to the public. Individuals and representatives of organizations who would like to offer comments and suggestions may do so during the meeting. Approximately 30 minutes will be reserved for public comments. Time allotted per speaker will depend on the number who wish to speak but will not exceed 10 minutes. The Designated Federal Officer is empowered to conduct the meeting in a fashion that will facilitate the orderly conduct of business. Those wishing to speak should submit your request at least five days before the meeting. Those not able to attend the meeting or who have insufficient time to address the committee are invited to send a written statement to Christine Chalk, U.S. Department of Energy, 1000 Independence Avenue SW, Washington, DC 20585; email to Christine.Chalk@science.doe.gov.

Minutes: The minutes of this meeting will be available within 90 days on the Advanced Scientific Computing website at: https://science.osti.gov/ascr/ascac.

Signed in Washington, DC, on July 8, 2021.
LaTanya Butler,
Deputy Committee Management Officer.

[FR Doc. 2021-14856 Filed 7-12-21; 8:45 am]

BILLING CODE 6450-01-P